DEPARTMENT OF HOMELAND SECURITY

Coast Guard

33 CFR Part 117

[Docket No. USCG-2012-0808]

Drawbridge Operation Regulations; Old River, Orwood, CA

AGENCY: Coast Guard, DHS.

ACTION: Notice of cancellation of a temporary deviation from regulations.

SUMMARY: The Coast Guard is canceling the temporary deviation concerning the Burlington Northern & Santa Fe Railroad (BNSF) Drawbridge across Old River, mile 10.4, at Orwood, CA. This cancellation was requested by the bridge owner due to their inability to operate the BNSF Middle River drawbridge as an alternative path for navigation.

DATES: The temporary deviation published on September 21, 2012 (77 FR 58491) is cancelled as of October 17, 2012.

ADDRESSES: The docket for this cancelled deviation is available for inspection or copying at the Docket Management Facility (M-30), U.S. Department of Transportation, West Building Ground Floor, Room W12-140, 1200 New Jersey Avenue SE., Washington, DC 20590, between 9 a.m. and 5 p.m., Monday through Friday, except Federal holidays. You may also find this docket on the Internet by going to http://www.regulations.gov, inserting USCG-2012-0808 in the “Keyword” box and then clicking “Search”.

FOR FURTHER INFORMATION CONTACT: If you have questions on this rule, call or email David H. Sulouff, Chief, Bridge Section, Eleventh Coast Guard District; telephone 510-437-3516, email David.H.Sulouff@uscg.mil.

SUPPLEMENTARY INFORMATION:

A. Basis and Purpose

On September 21, 2012, we published a temporary deviation entitled “Drawbridge Operation Regulation; Old River, Orwood CA” in the Federal Register (77 FR 58491). The temporary deviation concerned the Burlington Northern & Santa Fe Railroad (BNSF) Drawbridge across Old River, mile 10.4, at Orwood, CA. The deviation was to allow the bridge owner to perform essential mechanical repairs while the bridge remained in the closed-to-navigation position from 8 a.m. October 22, 2012 to 4 p.m. on October 26, 2012. This deviation from the operating regulations was authorized under 33 CFR 117.35.

B. Cancellation

The temporary deviation is canceled due the unexpected unavailability of an alternative path for navigation during the proposed times and dates of the repair work.

Dated: October 5, 2012.
D.H. Sulouff,
District Bridge Chief, Eleventh Coast Guard District.

[FR Doc. 2012-25539 Filed 10-16-12; 8:45 am]

BILLING CODE 9110-04-P